DEPARTMENT OF COMMERCE

National Oceanic and Atmospheric Administration

RIN 0648-XE700

Endangered and Threatened Species; Take of Anadromous Fish

AGENCY: National Marine Fisheries Service (NMFS), National Oceanic and Atmospheric Administration (NOAA), Commerce.

ACTION: Notice of final determination and discussion of underlying biological analysis.

SUMMARY: NMFS has evaluated three Resource Management Plans (RMPs) submitted to NMFS pursuant to the limitation on take prohibitions for actions conducted under Limit 6 of the 4(d) Rule for salmon and steelhead promulgated under the Endangered Species Act (ESA). The RMPs specify the propagation of three species of salmon in the Dungeness River watershed of Washington State. This document serves to notify the public that NMFS, by delegated authority from the Secretary of Commerce, has determined pursuant to Limit 6 of the ESA 4(d) Rule for salmon and steelhead that implementing and enforcing the plans will not appreciably reduce the likelihood of survival and recovery of the Puget Sound Chinook salmon and Puget Sound steelhead.

DATES: The final determination on the take limit was made on June 10, 2016.

ADDRESSES: Written responses to the determination should be sent to NMFS Sustainable Fisheries Division, 510 Desmond Dr., Suite 103, Lacey, WA 98503.

FOR FURTHER INFORMATION CONTACT: Tim Tynan at (360) 753-9579 or email: tim.tynan@noaa.gov.

SUPPLEMENTARY INFORMATION:

ESA-Listed Species Covered in This Notice

Chinook salmon (Oncorhynchus tshawytscha): Threatened, Puget Sound, naturally produced and artificially propagated.

Steelhead (O. mykiss): Threatened, Puget Sound, naturally produced and artificially propagated.

Chum salmon (O. keta): Threatened, naturally produced and artificially propagated Hood Canal summer-run.

Background

The Washington Department of Fish and Wildlife (WDFW) and the Jamestown S'Klallam Tribe have submitted to NMFS RMPs for three jointly operated hatchery programs in the Dungeness River basin. The plans were submitted in January 2013, pursuant to limit 6 of the 4(d) Rule for the listed Puget Sound Chinook Salmon evolutionarily significant unit (ESU) and listed Puget Sound Steelhead distinct population segment (DPS). The plans reflect refinements of existing plans provided previously and evaluated pursuant to the 4(d) Rule. The hatchery programs release ESA-listed Chinook salmon and non-listed coho and fall-run pink salmon into the Dungeness River watershed. All three programs release fish native to the Dungeness River basin. All of the programs are currently operating.

As required by § 223.203(b)(6) of the ESA 4(d) rule, NMFS must determine pursuant to 50 CFR 223.209 and pursuant to the government-to-government processes therein whether the three plans for Dungeness River salmon hatchery programs would appreciably reduce the likelihood of survival and recovery of the Puget Sound Chinook Salmon ESU or Puget Sound Steelhead DPS. NMFS must take comments on how the plans address the criteria in § 223.203(b)(5) in making that determination.

Discussion of the Biological Analysis Underlying the Determination

The hatchery activities described in the three RMPs are intended to conserve native, listed Dungeness River Chinook salmon and non-listed fall-run pink salmon populations, and provide coho salmon for harvest in tribal and non-Indian fisheries in the basin. The Chinook and pink salmon programs are designed to preserve, and bolster the natural spawning abundance of, the native Dungeness River populations of the species. The Chinook salmon stock released through the Dungeness River Hatchery Spring Chinook salmon program is included as part of the listed Puget Sound Chinook Salmon ESU. The Dungeness River Hatchery spring Chinook program would assist in the recovery of the listed native Dungeness Chinook salmon population. The coho salmon program is operated for harvest augmentation purposes, using broodstock derived from the native, non-listed Dungeness River coho salmon population.

The three programs would be operated in such a way as to minimize potential risks to listed natural-origin Dungeness River Chinook salmon, summer chum salmon, and steelhead populations, including interactions between hatchery and natural fish that may lead to adverse genetic effects and competition and predation. The proposed hatchery programs are consistent with the Dungeness River chapter of the Shared Strategy for Puget Sound (SSPS 2005; Ruckelshaus et al. 2005) and the Hood Canal Summer Chum Plan (HCCC 2005). These recovery plans were approved by NMFS to protect and restore listed Chinook and summer chum salmon populations across their range in Puget Sound (NMFS 2006; NMFS 2007).

As part of the proposed hatchery programs, monitoring and evaluation would be implemented to assess their performance in meeting population conservation or harvest augmentation objectives, and their effects on ESA-listed natural-origin Chinook salmon, summer chum salmon, and steelhead. Information gained through monitoring and evaluation will be used to assess whether the impacts of the programs on listed fish are as expected. Review of monitoring and evaluation results by NMFS and the co-managers will occur annually to evaluate whether assumptions regarding RMP effects and analysis remain valid, and whether the objectives of the RMPs are being accomplished.

The RMPs include provisions for annual reports that will assess compliance with performance standards established through the RMPs. Reporting and inclusion of new information derived from RMP research, monitoring, and evaluation activities provides assurance that performance standards will be achieved in future seasons. NMFS' evaluation is available on the West Coast Region Web site at http://www.westcoast.fisheries.noaa.gov.

Summary of Comments Received in Response to the Proposed Evaluation and Pending Determination

NMFS published notice of its proposed evaluation and pending determination on the plans for public review and comment on February 20, 2015 (80 FR 9260). The proposed evaluation and pending determination and an associated draft environmental assessment were available for public review and comment for 30 days.

During the public comment period, NMFS received two comment letters on the draft environmental assessment. None of the comments raised issues that required substantive modification of the environmental assessment. The comments and NMFS' detailed responses are available on the West Coast Region Web site, as an appendix to the environmental assessment. Based on its evaluation and recommended determination and taking into account the public comments, NMFS issued its final determination on the Dungeness River salmon hatchery plans.

Authority

Under section 4 of the ESA, the Secretary of Commerce is required to adopt such regulations as he deems necessary and advisable for the conservation of species listed as threatened. The ESA salmon and steelhead 4(d) rule (65 FR 42422, July 10, 2000) specifies categories of activities that contribute to the conservation of listed salmonids and sets out the criteria for such activities. The rule further provides that the prohibitions of paragraph (a) of the rule do not apply to actions undertaken in compliance with a RMP developed jointly by a state and a tribe and determined by NMFS to be in accordance with the salmon and steelhead 4(d) rule (65 FR 42422, July 10, 2000).

Dated: June 28, 2016.
Angela Somma,
Chief, Endangered Species Division, Office of Protected Resources, National Marine Fisheries Service.

[FR Doc. 2016-15665 Filed 6-30-16; 8:45 am]

BILLING CODE 3510-22-P